DEPARTMENT OF THE INTERIOR

National Park Service

[NPS-WASO-NAGPRA-NPS0037560; PPWOCRADN0-PCU00RP14.R50000]

Notice of Inventory Completion: University of Oregon Museum of Natural and Cultural History, Eugene, OR

AGENCY: National Park Service, Interior.

ACTION: Notice.

SUMMARY: In accordance with the Native American Graves Protection and Repatriation Act (NAGPRA), the University of Oregon Museum of Natural and Cultural History has completed an inventory of human remains and has determined that there is a cultural affiliation between the human remains and Indian Tribes or Native Hawaiian organizations in this notice. The human remains were removed from the state of Oregon.

DATES: Repatriation of the human remains in this notice may occur on or after April 8, 2024.

ADDRESSES: Dr. Pamela Endzweig, Director of Anthropological Collections, University of Oregon Museum of Natural and Cultural History, 1224 University of Oregon, Eugene, OR 97403-1224, telephone (541) 346-5120, email endzweig@uoregon.edu.

SUPPLEMENTARY INFORMATION: This notice is published as part of the National Park Service's administrative responsibilities under NAGPRA. The determinations in this notice are the sole responsibility of the University of Oregon Museum of Natural and Cultural History. The National Park Service is not responsible for the determinations in this notice. Additional information on the determinations in this notice, including the results of consultation, can be found in the inventory or related records held by the University of Oregon Museum of Natural and Cultural History.

Description

Human remains representing, at minimum, one individual, were removed from an unknown location, by an unknown collector at an unknown date. Based on the Museum's statutory role as Oregon's State Anthropological Repository, the fragmentary human remains (cat. # Unknown-3) were likely removed from the state of Oregon. The human remains are from an individual of indeterminate age and sex. No associated funerary objects are present.

Human remains representing, at minimum, one individual, were removed from an unknown location, by an unknown collector at an unknown date. Based on the Museum's statutory role as Oregon's State Anthropological Repository, the fragmentary human remains (cat. # Unknown-8) were likely removed from the state of Oregon. The human remains are from a probable male, adult individual. No associated funerary objects are present.

Human remains representing, at minimum, one individual, were removed from an unknown location, by an unknown collector at an unknown date. Based on the Museum's statutory role as Oregon's State Anthropological Repository, the fragmentary human remains (cat. # Unknown-14) were likely removed from the state of Oregon. The human remains are from an adult male individual. No associated funerary objects are present.

Human remains representing, at minimum, one individual, were removed from an unknown location, by an unknown collector at an unknown date. Based on the Museum's statutory role as Oregon's State Anthropological Repository, the fragmentary human remains (cat. # Unknown-15) were likely removed from the state of Oregon. The human remains are from a female individual between 45-60 years of age. No associated funerary objects are present.

Human remains representing, at minimum, one individual, were removed from an unknown location, by an unknown collector at an unknown date. Based on the Museum's statutory role as Oregon's State Anthropological Repository, the fragmentary human remains (cat. # Unknown-16) were likely removed from the state of Oregon. The human remains are from an adult individual of indeterminate sex. No associated funerary objects are present.

Human remains representing, at minimum, one individual, were removed from an unknown location, by an unknown collector at an unknown date. Based on the Museum's statutory role as Oregon's State Anthropological Repository, the fragmentary human remains (cat. # Unknown-18) were likely removed from the state of Oregon. The human remains are from a female individual between 30-50 years of age. No associated funerary objects are present.

Human remains representing, at minimum, one individual, were removed from an unknown location, by an unknown collector at an unknown date. Based on the Museum's statutory role as Oregon's State Anthropological Repository, the fragmentary human remains (cat. # Unknown-19) were likely removed from the state of Oregon. The human remains are from an individual of indeterminate sex, between 6-8 years of age. No associated funerary objects are present.

Human remains representing, at minimum, two individuals, were removed from an unknown location, by an unknown collector at an unknown date. Based on the Museum's statutory role as Oregon's State Anthropological Repository, the fragmentary human remains (cat. # Unknown-20) were likely removed from the state of Oregon. The human remains are from an individual of indeterminate sex between 4-8 years of age and an adult individual of indeterminate sex. No associated funerary objects are present.

Human remains representing, at minimum, two individuals, were removed from an unknown location, by an unknown collector at an unknown date. Based on the Museum's statutory role as Oregon's State Anthropological Repository, the fragmentary human remains (cat. # 11-45; field no. SK8) were likely removed from the state of Oregon. They appear in the Museum's catalog between 1932 and 1936. The human remains are from an individual of indeterminate sex between 15-19 years of age and an adult probable male individual. No associated funerary objects are present.

Human remains representing, at minimum, one individual, were removed from an unknown location, by an unknown collector at an unknown date. Based on the Museum's statutory role as Oregon's State Anthropological Repository, the fragmentary human remains (cat. # 11-46) were likely removed from the state of Oregon. They appear in the Museum's catalog between 1932 and 1936. The human remains are from an adult female individual. No associated funerary objects are present.

Human remains representing, at minimum, two individuals, were removed from an unknown location, by an unknown collector at an unknown date. Based on the Museum's statutory role as Oregon's State Anthropological Repository, the fragmentary human remains (cat. # 11-47) were likely removed from the state of Oregon. They appear in the Museum's catalog between 1932 and 1936. The human remains are from an adult female individual and an individual of indeterminate sex between 3-4 years of age. No associated funerary objects are present.

Human remains representing, at minimum, two individuals, were removed from an unknown location, by an unknown collector at an unknown date. Based on the Museum's statutory role as Oregon's State Anthropological Repository, the fragmentary human remains (cat. # 11-137) were likely removed from the state of Oregon. They appear in the Museum's catalog between 1940 and 1942. The human remains are from an individual of indeterminate sex between 10-14 years of age, and an adult individual of indeterminate sex. No associated funerary objects are present.

Human remains representing, at minimum, one individual, were removed from an unknown location, by an unknown collector at an unknown date. Based on the Museum's statutory role as Oregon's State Anthropological Repository, the fragmentary human remains (cat. # 11-201b) were likely removed from the state of Oregon. Their appearance in the Museum's catalog dates to ca.1947. The human remains are from a female individual between 21-30 years of age. No associated funerary objects are present.

Human remains representing, at minimum, one individual, were removed from an unknown location, by an unknown collector at an unknown date. Based on the Museum's statutory role as Oregon's State Anthropological Repository, the fragmentary human remains (cat. # 11-264) were likely removed from the state of Oregon. At an unknown date, the human remains became part of a “biology department's vertebrate collection,” presumably the University of Oregon. The human remains were accessioned by the Museum under #100LL in May 1951. The human remains are from an adult individual of indeterminate sex. No associated funerary objects are present.

Human remains representing, at minimum, one individual, were removed from an unknown location, by an unknown collector at an unknown date. Based on the Museum's statutory role as Oregon's State Anthropological Repository, the fragmentary human remains (cat. # 11-276) were likely removed from the state of Oregon. The human remains were received by the Museum from the Portland Crime Detection Laboratory and accessioned under accession number 100MH in April of 1952. The human remains are from a female individual between 30-35 years of age. No associated funerary objects are present.

Human remains representing, at minimum, one individual, were removed from an unknown location, by an unknown collector at an unknown date. Based on the Museum's statutory role as Oregon's State Anthropological Repository, the fragmentary human remains (cat. # 11-290) were likely removed from the state of Oregon. The human remains were donated to the Museum by Dr. Homer Harris of the University of Oregon Medical School Crime Detection Laboratory, possibly in the 1950's. The human remains are from a female individual between 20-25 years of age. No associated funerary objects are present.

Human remains representing, at minimum, one individual, were removed from an unknown location, by an unknown collector at an unknown date. Based on the Museum's statutory role as Oregon's State Anthropological Repository, the fragmentary human remains (cat. # 11-316) were likely removed from the state of Oregon. The human remains are from a female individual between 25-35 years of age. No associated funerary objects are present.

Human remains representing, at minimum, one individual, were removed from an unknown location, by an unknown collector at an unknown date. Based on the Museum's statutory role as Oregon's State Anthropological Repository, the fragmentary human remains (cat. # 11-410) were likely removed from the state of Oregon. The human remains were obtained by the Museum in 1955 from the University of Oregon biology department. The human remains are from a female individual between 25-35 years of age. No associated funerary objects are present.

Human remains representing, at minimum, two individuals, were removed from an unknown location, by an unknown collector at an unknown date. Based on the Museum's statutory role as Oregon's State Anthropological Repository, the fragmentary human remains (cat. # 11-411) were likely removed from the state of Oregon. The human remains were obtained by the Museum in 1955 from the University of Oregon biology department. The human remains are from a male individual between 40-45 years of age, and a subadult individual of indeterminate sex. No associated funerary objects are present.

Human remains representing, at minimum, one individual, were removed from an unknown location, by an unknown collector at an unknown date. Based on the Museum's statutory role as Oregon's State Anthropological Repository, the fragmentary human remains (cat. # 11-487) were likely removed from the state of Oregon. The human remains are from a male individual between 18-24 years of age. No associated funerary objects are present.

Human remains representing, at minimum, three individuals, were removed from an unknown location, by an unknown collector at an unknown date. Based on the Museum's statutory role as Oregon's State Anthropological Repository, the fragmentary human remains (cat. # 11-492) were likely removed from the state of Oregon. The human remains are from a female individual between 35-55 years of age, a male individual between 45-50 years of age, and a possibly male adult individual. No associated funerary objects are present.

Human remains representing, at minimum, one individual, were removed from an unknown location, by an unknown collector at an unknown date. Based on the Museum's statutory role as Oregon's State Anthropological Repository, the fragmentary human remains (cat. # 11-524) were likely removed from the state of Oregon. The human remains are from an adult individual of more than 25 years of age. No associated funerary objects are present.

Human remains representing, at minimum, three individuals, were removed from an unknown location, by an unknown collector at an unknown date, possibly by Joel Shiner and William S. Laughlin, in the 1940s-1950s. Based on the Museum's statutory role as Oregon's State Anthropological Repository, the fragmentary human remains (cat. # 11-553) were likely removed from the state of Oregon. The human remains are from an individual of indeterminate sex between one-to-four years of age, an individual of indeterminate sex between fetal and nine months of age, and an adult individual of indeterminate sex. No associated funerary objects are present.

Human remains representing, at minimum, one individual, were removed from an unknown location, by an unknown collector at an unknown date. Based on the Museum's statutory role as Oregon's State Anthropological Repository, the fragmentary human remains (cat. # 11-554) were likely removed from the state of Oregon. The human remains are from a possibly female individual between 20-40 years of age. No associated funerary objects are present.

Human remains representing, at minimum, two individuals, were removed from an unknown location, by an unknown collector at an unknown date. Based on the Museum's statutory role as Oregon's State Anthropological Repository, the fragmentary human remains (no cat. #) were likely removed from the state of Oregon. Human remains associated in storage (cat. #s 11-550, 11-551, 11-552, and 11-553) were removed from Astoria, OR; Bandon, OR; and an unknown location. The human remains are from an individual of indeterminate sex between 10-15 years of age and an adult individual of indeterminate sex. No associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: geographical information.

Determinations

Pursuant to NAGPRA and its implementing regulations, and after consultation with the appropriate Indian Tribes and Native Hawaiian organizations, the University of Oregon Museum of Natural and Cultural History has determined that:

• The human remains described in this notice represent the physical remains of 35 individuals of Native American ancestry.

• There is a relationship of shared group identity that can be reasonably traced between the human remains described in this notice and the Burns Paiute Tribe; Confederated Tribes of Siletz Indians of Oregon; Confederated Tribes of the Coos, Lower Umpqua and Siuslaw Indians; Confederated Tribes of the Grand Ronde Community of Oregon; Confederated Tribes of the Umatilla Indian Reservation; Confederated Tribes of the Warm Springs Reservation of Oregon; Coquille Indian Tribe; Cow Creek Band of Umpqua Tribe of Indians; and the Klamath Tribes.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after April 8, 2024. If competing requests for repatriation are received, the University of Oregon Museum of Natural and Cultural History must determine the most appropriate requestor prior to repatriation. Requests for joint repatriation of the human remains are considered a single request and not competing requests. The University of Oregon Museum of Natural and Cultural History is responsible for sending a copy of this notice to the Indian Tribes and Native Hawaiian organizations identified in this notice.

This notice was submitted before the effective date of the revised regulations (88 FR 86452, December 13, 2023, effective January 12, 2024). As the notice conforms to the mandatory format of the Federal Register and includes the required information, the National Park Service is publishing this notice as submitted.

Authority: Native American Graves Protection and Repatriation Act, 25 U.S.C. 3003, and the implementing regulations, 43 CFR 10.10.

Dated: February 29, 2024.
Melanie O'Brien,
Manager, National NAGPRA Program.

[FR Doc. 2024-04986 Filed 3-7-24; 8:45 am]

BILLING CODE 4312-52-P